DEPARTMENT OF HOMELAND SECURITY

Bureau of Customs and Border Protection

Cancellation of Customs Broker License Due to Death of the License Holder

AGENCY: Bureau of Customs and Border Protection, Department of Homeland Security.

ACTION: General notice.

SUMMARY: Notice is hereby given that, pursuant to Title 19 of the Code of Federal Regulations § 111.51(a), the following individual Customs broker licenses and any and all permits have been cancelled due to the death of the broker:

Name | License # | Port name
Frederic Alan Moede | 10053 | Los Angeles.
Irvin Henry Shannon | 01252 | Nogales.
Lawrence M. Lewis | 03804 | Norfolk.

Dated: November 15, 2004.
Jayson P. Ahern,
Assistant Commissioner, Office of Field Operations.

[FR Doc. 04-26108 Filed 11-24-04; 8:45 am]

BILLING CODE 4820-02-P